DEPARTMENT OF TRANSPORTATION

Federal Aviation Administration

Notice of Opportunity for Public Comment on a Disposal of 17.6 Acres of Airport Land at Manchester-Boston Regional Airport, Manchester, NH

AGENCY: Federal Aviation Administration (FAA), DOT.

ACTION: Request for public comments.

SUMMARY: Notice is being given that the FAA is considering a request from the Manchester-Boston Regional Authority to dispose of 17.6 acres of airport land. The parcel is located three miles south of the airport and surrounded by residential development. Considering its remote location and no aviation development potential, disposal of the property is approved. The airport will obtain fair market value for the disposal and the proceeds deposited into the airport's account for operation and maintenance of the facility.

DATES: Comments must be received on or before March 16, 2018.

ADDRESSES: You may send comments using any of the following methods:

• Federal eRulemaking Portal: Go to http://www.regulations.gov, and follow the instructions on providing comments.

• Fax: 202-493-2251.

• Mail: U.S. Department of Transportation, Docket Operations,M-30, West Building Ground Floor, Room W 12-140, 1200 New Jersey Avenue SE, Washington, DC 20590.

• Hand Delivery: Deliver to mail address above between 9 a.m. and 5 p.m., Monday through Friday, except Federal holidays.

Interested persons may inspect the request and supporting documents by contacting the FAA at the address listed under FOR FURTHER INFORMATION CONTACT.

FOR FURTHER INFORMATION CONTACT: Mr. Jorge E. Panteli, Compliance and Land Use Specialist, Federal Aviation Administration New England Region Airports Division, 1200 District Avenue, Burlington, Massachusetts, 01803. Telephone: 781-238-7618.

Issued in Burlington, Massachusetts on January 29, 2018.
Gail B. Lattrell,
Deputy Director, ANE-600.

[FR Doc. 2018-02942 Filed 2-13-18; 8:45 am]

BILLING CODE P